DEPARTMENT OF ENERGY

Federal Energy Regulatory Commission

[Project No. 7269-026]

James B. Boyd and Janet A. Boyd; Notice of Termination of License by Implied Surrender and Soliciting Comments, Protests, and Motions To Intervene

April 15, 2009.

Take notice that the following hydroelectric proceeding has been initiated by the Commission:

a. Type of Proceeding: Termination of license by implied surrender.

b. Project No.: 7269-026.

c. Date Initiated: March 13, 2009.

d. Licensee: The licensee is James B. Boyd and Janet A. Boyd.

e. Name and Location of Project: The Jim Boyd Project is located on the Umatilla River, in Umatilla County, Oregon.

f. Filed Pursuant to: 18 CFR 6.4.

g. Licensee Contact Information: Janet A Boyd, (Dennis B. Logan), 7661 Paterson Ferry Road, Irrigon, OR 97844.

h. FERC Contact: William Guey-Lee, (202) 502-6064.

i. Deadline for filing comments, protests, and motions to intervene: June 1, 2009.

All documents (original and eight copies) should be filed with the Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings. Please include the project number (P-7269-026) on any documents or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities: The project consists of a 3.5-foot-high concrete diversion weir; a canal intake structure equipped with trash racks, fish screens, and flowbays; a 5,350-foot-long power canal; a penstock headworks; four 60-inch-diameter, 280-foot-long penstocks; a powerhouse containing four, 300-kW propeller turbine-generating units; and a .25-mile-long, 12.47-kilovolt transmission line, and appurtenant facilities.

k. Description of Proceeding: 18 CFR 6.4 of the Commission's regulations provides, among other things, that it is deemed to be the intent of a licensee to surrender a license, if the licensee abandons a project for a period of three years.

The project was issued a minor license in 1984 to Mrs. Boyd and her husband, James B. Boyd. The project has not operated since June 2002 when its power purchase agreement expired. Sometime prior to that, Mr. Boyd passed away, and Mrs. Boyd sold the project to Mr. Logan without prior Commission approval. After the project was sold, Mr. Logan, who had been a project representative on behalf of the licensees, became the contact person for Commission staff. On December 24, 2002, Commission staff from the Commission's Portland Regional Office (Regional Office) directed Mr. Logan to file an application for approval to transfer the license from Ms. Boyd to him. He failed to do so.

The Regional Office conducted inspections of the project on June 20, 2003; April 27, 2004; June 22, 2006; and August 30, 2006. Compliance issues (in addition to power generation shutdown and unauthorized transfer of project property) were discovered, including the failure to control vegetation growth (in the April 27, 2004 inspection), which was temporarily corrected, and the failure to remove concrete panels from the dam to expedite fish passage during period of power operations shutdown, and the failure to correct an oil leak from the project's hydraulic hoses (in the June 22 and August 30, 2006 inspections).

Following its June 22, 2006 inspection, on July 7, 2006, the Regional Office sent Mr. Logan a follow-up letter, noting once again that the project had been transferred without Commission approval, and had not been operated since June 2002. The Regional Office also noted that the removal of the dam's concrete panels was needed to expedite fish passage; that the inspection and repair of the project's hydraulic hoses, supply lines, and connections were needed for operation of the project's diversion gates; and that Mr. Logan should file proof of the completion of these maintenance requirements.

On August 21, 2006, Mr. Logan responded, providing a schedule to put the project back into operation by the Fall of 2007. On September 21, 2006, the Regional Office acknowledged the removal of the concrete panels and inspection of the hoses and supply line, and required Mr. Logan to file monthly progress reports on the repairs and modifications necessary to bring the project back on line by the end of 2007. According to Mr. Logan, activities required to restart operation include installation of a new transmission line, purchase of new underground cable, certification of the project as green power, and repairs to the housing facility and turbines.

The project has not operated since 2002, when PacifiCorp terminated its power sales contract with the licensee. The efforts of Mrs. Boyd and Mr. Logan to comply with project maintenance requirements have been slow and spotty, occurring over extended periods and the project is still not operating six years after power generation ceased. Mr. Logan's last monthly report of the progress of project rehabilitation was filed approximately a year and one half ago, and the reports that were filed mostly were comprised of checklists of inspections and little project rehabilitation progress. To date, the licensee has not made the necessary repairs to resume operations at the project and the project is hereby considered abandoned. On March 13, 2009, the Commission issued an order dismissing application to transfer license and initiating implied surrender proceeding.

l. Location of the Order: A copy of the order is available for inspection and reproduction at the Commission in the Public Reference Room or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the proceeding.

Comments, protests and interventions may be filed electronically via the Internet in lieu of paper; See 18 CFR 385.2001(a)(1)(iii) and the instructions on the Commission's Web site under “e-filing” link. The Commission strongly encourages electronic filing.

o. Filing and Service of Responsive Documents—Any filings must bear in all capital letters the title “COMMENTS”, “PROTEST”, or “MOTION TO INTERVENE”, and “RECOMMENDATIONS FOR TERMS AND CONDITIONS”, as applicable, and the Project Number of the proceeding. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address.

p. Agency Comments—Federal, state, and local agencies are invited to file comments on the described proceeding. If an agency does not file comments within the time specified for filing comments, it will be presumed to have no comments.

Kimberly D. Bose,
Secretary.

[FR Doc. E9-9173 Filed 4-21-09; 8:45 am]

BILLING CODE 6717-01-P